DEPARTMENT OF TRANSPORTATION

Federal Aviation Administration

Draft Environmental Assessment for the Proposed Actions Relating to a Change in Department Procedure at Sarasota-Bradenton International Airport and Public Comment

AGENCY: Federal Aviation Administration.

ACTION: Extension of the comment period.

SUMMARY: On April 26, 2000, the Federal Aviation Administration (FAA) announced the availability of the Draft Environmental Assessment (DEA) for a proposed departure procedure at Sarasota Manatee International Airport and a request for comments. The Sarasota-Bradenton Airport Authority requested the change in departure procedures to achieve noise level reductions over the neighboring community in manatee county north of the airport. The proposed actions include the following: (1) Turning aircraft department Runway 32 to the northwest, over land-use areas that are more compatible with the noise emissions of aircraft and (2) reducing significant residential noise levels caused by aircraft executing the new turn.

DATES: The opportunity to provide written comments on the DEA will be extended until July 14, 2000. Late filed comments will be considered to the extent practicable.

ADDRESSES: Written comments on the DEA may be mailed, in triplicate, to: Federal Aviation Administration, Attention: Nancy Shelton, Airspace Branch, ASO-520, 1702 Columbia Avenue, College Park, GA 30337-2745.

FOR FURTHER INFORMATION CONTACT: Questions concerning this DEA or the process being applied by the FAA, should be directed to Nancy Shelton via telephone at (404) 305-5585, or in writing to the above address.

SUPPLEMENTARY INFORMATION: The FAA will consider all comments directly within the scope of the DEA. The most useful comments are those which provide facts and analyses to support the reviewer's recommendations or conclusions. The FAA will consider comments received after the close of the comment period to the extent practicable. The FAA will issue a final Environmental Assessment that includes corrections, clarifications and responses to comments on the DEA, as appropriate. The DEA is not being published in today's Federal Register due to its size and detailed graphics on the charts contained in it. However, to maximize the opportunities for public participation in the environmental process, copies of the DEA are available for review at the following libraries:

Longboat Key Library, 555 Bay Isles Rd., Longboat Key, FL

Manatee County Public Library, 1301 Barcarrota Blvd. West, Bradenton, FL

Selby Public Library, 1331 First Street, Sarasota, FL

Issued in College Park, Georgia on June 8, 2000.
Suzanne Hynes,
Acting Manager, Air Traffic Division.

[FR Doc. 00-15211 Filed 6-15-00; 8:45 am]

BILLING CODE 4910-13-M